COMMISSION ON CIVIL RIGHTS

Sunshine Act Meeting Notice

AGENCY: United States Commission on Civil Rights.

ACTION: Notice of Commission Telephonic Business Meeting.

DATES: Friday, January 19, 2018, at 11:00 a.m. EST.

ADDRESSES: Meeting to take place by telephone.

FOR FURTHER INFORMATION CONTACT: Brian Walch, (202) 376-8371, publicaffairs@usccr.gov.

SUPPLEMENTARY INFORMATION: This business meeting is open to the public by telephone only.

PARTICIPANT ACCESS INSTRUCTIONS: Listen Only, Toll Free: 1-800-479-9001; Conference ID: 6075575. Please dial in 5-10 minutes prior to the start time.

Meeting Agenda

I. Approval of Agenda

II. Program Planning

• Discussion and Vote on Administrative Instruction on Oral Public Comment Periods

• Discussion and Vote on Release of Outline and Transcript of Commission's Briefing on Inequities in Higher Education Funding

V. Adjourn Meeting.

Dated: January 10, 2018.
Brian Walch,
Director, Communications and Public Engagement.

[FR Doc. 2018-00631 Filed 1-10-18; 4:15 pm]

BILLING CODE 6335-01-P